POSTAL SERVICE

39 CFR Part 111

Electronic Verification System (eVS) for Parcel Select Mailings

AGENCY: United States Postal Service.

ACTION: Final rule; suspension of effective date.

SUMMARY: This final rule delays the date set for the required use of electronic data and automated processes of the Electronic Verification System (eVS) for permit imprint Parcel Select® manifest mailings, which currently are paper-driven and rely on manual processes for handling verification and postage reconciliations. The delay in required use also extends to Standard Mail® machinable parcels and parcels from other Package Services subclasses (Bound Printed Matter, Library Mail, or Media Mail®) that are authorized to be commingled with permit imprint Parcel Select parcels. Parcel mailers and shippers may continue to use eVS as an option if they meet the required business standards and technical specifications in the Domestic Mail Manual.

DATES: The effective date for the final rule amending 39 CFR part 111 published in the Federal Register (71 FR 38966) on July 10, 2006, is delayed indefinitely. The Postal Service™ will publish a document in the Federal Register announcing the new effective date. The applicability date for the Mailing Standards of the United States Postal Service, Domestic Mail Manual (DMM®) change set forth below is May 14, 2007.

FOR FURTHER INFORMATION CONTACT: Neil Berger, Program Manager, Business Mailer Support, via e-mail at neil.h.berger@usps.gov or by telephone at (202) 268-7267.

SUPPLEMENTARY INFORMATION: On November 7, 2005, the Postal Service published a proposed rule in the Federal Register (70 FR 67399-67405), soliciting comments from mailers and parcel shippers on requiring the use of the Electronic Verification System (eVS) for all permit imprint Parcel Select mailings, including those containing authorized commingled Standard Mail machinable parcels and parcels from the other subclasses of Package Services (Bound Printed Matter, Media Mail, and Library Mail).

On July 10, 2006, the Postal Service published a final rule in the Federal Register (71 FR 38966-38978) responding to comments from the mailing industry and providing implementing language and mailing standards to take effect on August 1, 2007, that would require all permit imprint Parcel Select mail and all permit imprint mail authorized to be commingled with Parcel Select to be prepared using eVS.

The Postal Service is delaying the required use of eVS because of the large number of format and coding changes required by the R2006-1 omnibus rate case, implemented on May 14, 2007, and because of the addition of several new subclasses of mail that will become available under eVS after May 14, 2007.

As a result, the Postal Service is re-evaluating a suitable date for new mailer implementation of eVS. Once the Postal Service, working closely with the parcel shipping industry, determines an appropriate date, it will publish the new date in the Federal Register and the Postal Bulletin.

We adopt the following amendments to Mailing Standards of the United States Postal Service, Domestic Mail Manual (DMM), incorporated by reference in the Code of Federal Regulations. See 39 CFR 111.1.

List of Subjects in 39 CFR Part 111

Postal Service.

Accordingly, 39 CFR part 111 is amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM®) as provided below: Mailing Standards of the United States Postal Service, Domestic Mail Manual

* * * * *

705 Advanced Preparation and Special Postage Payment Systems

* * * * *

2.9 Electronic Verification System (eVS)

* * * * *

[Revise the heading “Optional and Required Use” to read as follows:]

2.9.4 Use

[Revise 2.9.4 by removing the last sentence “Effective August 1, 2007, mailers must use eVS for all permit imprint Parcel Select parcels and for permit imprint parcels authorized under 705.6.0 and 705.7.0 to be commingled with Parcel Select” to read as follows:] Mailers depositing permit imprint parcels for those classes of mail and rate categories specified in 2.9.2 may document and pay postage using eVS. Mailers authorized to commingle Standard Mail parcels or Package Services presorted parcels under 705.6.0 and 705.7.0 also may use eVS to document and pay postage for all parcels in the mailing for those mail classes and subclasses available under 2.9.2.

* * * * *

Neva R. Watson,
Attorney, Legislative.

[FR Doc. E7-10391 Filed 6-26-07; 8:45 am]

BILLING CODE 7710-12-P